DEPARTMENT OF THE INTERIOR

Fish and Wildlife Service

Notice of Availability of a Draft Environmental Assessment/Habitat Conservation Plan Related to Application for an Incidental Take Permit for the Long Point Homeowner's Association Development

AGENCY: Fish and Wildlife Service, Interior.

ACTION: Notice of availability.

SUMMARY: This notice advises the public and other agencies of the availability of a draft Environmental Assessment (EA)/Habitat Conservation Plan (HCP) and Incidental Take Permit (ITP) application for review and comment. The draft EA/HCP and ITP application were submitted to the U.S. Fish and Wildlife Service (Service) by the Long Point Homeowner's Association proposing residential development of the Long Point Subdivision on Kelleys Island, Erie County, Ohio. Federally-threatened Lake Erie water snakes (Nerodia sipedon insularum) occupy the project area and it has been determined that the proposed actions will result in incidental take. The Long Point Homeowner's Association submitted an ITP application to the Service for incidental take pursuant to section 10(a)(1)(B) of the Endangered Species Act of 1973 (Act), as amended. The submission of the ITP application required the development of an HCP by the applicants detailing measures to be taken to avoid, minimize, and mitigate impacts to Lake Erie water snakes.

DATES: Written comments must be received on or before May 16, 2003.

ADDRESSES: Written comments can be mailed to the address or fax number below. Electronic mail comments should be submitted to: longpointhcp@fws.gov. Persons wishing to review the documents may obtain copies by writing, telephoning, faxing, or e-mailing: Regional HCP Coordinator, U.S. Fish and Wildlife Services, 1 Federal Drive, Fort Snelling, MN 55111-4056, Telephone: (612) 713-5343, Fax: (612) 713-5292. The draft EA/HCP is also available at the following internet address: http://midwest.fws.gov/nepa/. Copies of the draft EA/HCP may also be viewed at four public libraries listed in SUPPLEMENTARY INFORMATION.

FOR FURTHER INFORMATION CONTACT: Mr. Peter Fasbender, Regional HCP Coordinator, Telephone: (612) 713-5343, or e-mail peter_fasbender@fws.gov

SUPPLEMENTARY INFORMATION:

Public Involvement

The draft EA/HCP is available for public review and comment for a period of 60 days. This notice is provided pursuant to section 10(a) of the Endangered Species Act and National Environmental Policy Act (NEPA) regulations (40 CFR 1506.6). Copies of the documents can be obtained as indicated in the ADDRESSES section. In addition, documents will be available for public inspection during normal business hours (8-4:30), at the U.S. Fish and Wildlife Service, 1 Federal Drive, Fort Snelling, Minnesota, and at the Reynoldsburg Ecological Services Field Office, 6950 Americana Parkway, Suite H, Reynoldsburg, Ohio and at the following libraries:

Port Clinton Public Library, 310 Madison St., Port Clinton, Ohio 43452

Sandusky Library, 114 W. Adams St., Sandusky, Ohio 44870

Sandusky Library, 528 Division St., Kelleys Island, Ohio 43438

Oak Harbor Public Library, 147 W. Main St., Oak Harbor, Ohio 43449

All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

Incidental Take Permits

Section 9 of the Endangered Species Act (Act) and Federal regulations prohibit “take” of fish or wildlife species listed as endangered or threatened. Take of listed fish or wildlife is defined under the Act to mean harass, harm, pursue, hunt, shoot, wound, kill, trap, capture, collect, or to attempt to engage in any such conduct (16 U.S.C. 1538). Harm may include significant habitat modification where it actually kills or injures wildlife by significantly impairing essential behavioral patterns, including breeding, feeding, and sheltering [50 CFR 17.3(c)]. The Service may under limited circumstances issue permits to take listed species, provided such take is incidental to, and not the purpose of, an otherwise lawful activity. Regulations governing permits for endangered species are found in 50 CFR 17.22.

Background on Habitat Conservation Plan

The Long Point Homeowner's Association proposes to develop the 15-acre Long Point Subdivision on Kelleys Island, Erie County, Ohio. The Lake Erie water snake and its habitat occur on the 15-acre tract. Within the HCP boundary, 7 acres will be cleared and 6.1 acres permanently maintained for the proposed development of the seven residential lots known as the Long Point Subdivision. Incidental take of Lake Erie water snakes is expected to occur due to the loss and degradation of sheltering and hibernation habitat and due to the increase in human activity in the project area. Loss of suitable habitat would potentially result in a reduction in overwinter survival due to the loss of hibernacula and increased predation due to the loss of vegetation for shelter. More human activity on the 15-acre property would increase the likelihood of human disturbance and disruption of snakes, vehicular strikes of snakes, harassment and/or predation of snakes by pets, and mortality of snakes caused by mowing.

The purpose of the HCP is to ensure incidental take will be minimized and mitigated to the maximum extent practicable and will not appreciably reduce the likelihood of the survival and recovery of this species in the wild. The Long Point Homeowner's Association designed the HCP in consultation with the Service to ensure the project area will continue to support suitable habitat for the species, while allowing for incidental take of Lake Erie water snakes from the proposed activities. Measures in the HCP designed to avoid, minimize, and mitigate the impacts of the proposed action on Lake Erie water snakes include: (1) Seasonal and temperature restrictions on ground disturbing activities including construction and mowing; (2) establishment of a shoreline buffer area to conserve habitat; (3) restrictions on pesticide and fertilizer use; (4) construction of artificial hibernacula; (5) restrictions on size and placement of structures including residences, garages, decks, driveways, and septic systems; and (6) monitoring the Lake Erie water snake population response to the proposed construction and mitigation for 15 years.

Background on Environmental Assessment

The Proposed Action consists of issuing an ITP and implementation of the HCP. The draft EA considers three action alternatives and the “No Action” alternative. The NEPA process will be completed after the comment period, at which time the Service will evaluate the permit application (if appropriate to the selected alternative), the HCP, and comments submitted thereon to determine whether the application meets the requirements of section 10(a) of the Act. If the requirements are met, the Service will issue a permit to the Long Point Homeowner's Association for the incidental take of Lake Erie water snakes associated with the proposed activities on Kelleys Island, Erie County, Ohio. The final permit decision will be made no sooner than 60 days from the date of this notice.

The area encompassed by the HCP may contain facilities eligible to be listed on the National Register of Historic Places and other historical or archeological resources may be present. The National Historic Preservation Act and other laws require these properties and resources be identified and considered in project planning. The public is requested to inform the Service of concerns about archeological sites, buildings and structures, historic events, sacred and traditional areas, and other historic preservation concerns.

Authority: 16 U.S.C. 1531, et seq.; 42 U.S.C. 4321-4347.

Dated: February 26, 2003.
Lynn M. Lewis,
Acting Assistant Regional Director, Ecological Services, Region 3, Fort Snelling, Minnesota.

[FR Doc. 03-6239 Filed 3-14-03; 8:45 am]

BILLING CODE 4310-55-P